ENVIRONMENTAL PROTECTION AGENCY

[FRL-8038-4]

Proposed CERCLA Administrative Agreement for Recovery of Past Response Costs; San Joaquin Drum Superfund Removal Site

AGENCY: Environmental Protection Agency.

ACTION: Notice; request for public comment.

SUMMARY: In accordance with Section 122(i) of the Comprehensive Environmental Response, Compensation, and Liability Act, as amended by the Superfund Amendments and Reauthorization Act (“CERCLA”), 42 U.S.C. 9622(i), notice is hereby given of a proposed Administrative Order on Consent (“AOC,” Region 9 Docket No. 9-2006-0003) pursuant to Section 122(h) of CERCLA concerning the San Joaquin Drum Removal Site (the “Site”), located in Bakersfield, California. The respondent to the AOC is Chevron USA, which arranged for the disposal of hazardous substances at the Site for which EPA incurred response costs.

Through the proposed AOC, Chevron USA will reimburse the United States its incurred response costs of $113,493. The AOC provides Chevron USA with a covenant not to sue and contribution protection for the costs and the removal action at the Site.

For thirty (30) days following the date of publication of this Notice, the Agency will receive written comments relating to the proposed AOC. The Agency's response to any comments will be available for public inspection at EPA's Region IX offices, located at 75 Hawthorne Street, San Francisco, California 94105.

DATES: Comments must be submitted on or before March 31, 2006.

ADDRESSES: The proposed Agreement may be obtained from Judith Winchell, Docket Clerk, telephone (415) 972-3124. Comments regarding the proposed Agreement should be addressed to Judith Winchell (SFD-7) at EPA Region IX, 75 Hawthorne Street, San Francisco, California 94105, and should reference the San Joaquin Drum Removal Site, Bakersfield, California, and USEPA Docket No. 9-2006-0003.

FOR FURTHER INFORMATION CONTACT: J. Andrew Helmlinger, Office of Regional Counsel, telephone (415) 972-3904, U.S. EPA Region IX, 75 Hawthorne Street, San Francisco, California 94105.

Dated: February 10, 2006.
Daniel A. Meer,
Acting Director, Superfund Division.

[FR Doc. E6-2903 Filed 2-28-06; 8:45 am]

BILLING CODE 6560-50-P